FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012479-002.

Title: Maersk/CMA CGM WCCA Vessel Sharing Agreement.

Parties: Maersk Line A/S and CMA CGM S.A.

Filing Party: Wayne Rohde; Cozen O'Connor; 1200 19th Street NW; Washington, DC 20036.

Synopsis: The amendment deletes Hamburg Sudamerkanische Dampschefffahrts-Gesellschaft KG as a party and replaces it with Maersk Line A/S, changes the name of the Agreement, and restates the Agreement.

Agreement No.: 201103-013.

Title: Memorandum Agreement of the Pacific Maritime Association of December 14, 1983 Concerning Assessments to Pay ILWU-PMA Employee Benefit Costs, As Amended, Through May 1, 2018.

Parties: Pacific Maritime Association.

Filing Party: David F. Smith, Esq.; Cozen O'Connor; 1200 19th Street NW; Washington, DC 20036.

Synopsis: The amendment revises how the man-hour base assessment will be calculated.

Dated: May 7, 2018.
Rachel E. Dickon,
Secretary.

[FR Doc. 2018-09936 Filed 5-9-18; 8:45 am]

BILLING CODE 6731-AA-P